DEPARTMENT OF JUSTICE

Notice of Lodging of Proposed Consent Decree Under the Comprehensive Environmental Response, Compensation, and Liability Act

On September 8, 2025, the Department of Justice lodged a proposed Consent Decree with the United States District Court for the Northern District of Illinois in the lawsuit entitled United States v. MPG Industries, Inc., Millridge Industries, LLC, and Millridge IV, LLC, Civil Action No. 25-cv-10792 (Dk. No. 2).

The Complaint asserts claims under the Comprehensive Environmental Response, Compensation, and Liability Act (“CERCLA”) Section 107(a), 42 U.S.C. 9607(a), relating to an environmental cleanup of a former specialty chemicals manufacturing facility that was partially destroyed by a fire in August 2019. At the time of the fire, MPG Industries, Inc., and Millridge Industries, LLC, operated the facility, while Millridge IV, LLC, owned the Facility and leased it to MPG Industries. Under the proposed Consent Decree, Defendants would reimburse EPA for $674,701.87 in response costs the agency incurred while cleaning up the site, as well as $27,371.67 in interest on those response costs.

The publication of this notice opens a period for public comment on the Consent Decree. Comments should be addressed to the Assistant Attorney General, Environment and Natural Resources Division, and should refer to United States v. MPG Industries, Inc., Millridge Industries, LLC, and Millridge IV, LLC, D.J. Ref. No. 90-11-3-12915. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the Consent Decree may be examined and downloaded at this Justice Department website: https://www.justice.gov/enrd/consent-decrees. If you require assistance accessing the consent decree, you may request assistance by email or by mail to the addresses provided above for submitting comments.

Jason A. Dunn,
Assistant Section Chief, Environmental Enforcement Section, Environment and Natural Resources Division.

[FR Doc. 2025-17476 Filed 9-10-25; 8:45 am]

BILLING CODE 4410-15-P